DEPARTMENT OF VETERANS AFFAIRS

Disposal of Enhanced-Use Leased Property at the Department of Veterans Affairs Medical Center in North Chicago, IL

AGENCY: Department of Veterans Affairs.

ACTION: Notice of intent to dispose of property to an enhanced-use lessee.

SUMMARY: The Secretary of the Department of Veterans Affairs (VA) intends to dispose of approximately 85.4 acres of property at the VA Medical Center in North Chicago, Illinois, which currently is being leased by the Rosalind Franklin University of Medicine and Science (RFUMS). The Secretary, in accordance with 38 U.S.C. section 8164, has determined that VA no longer needs such property and that—with the exception of retaining ownership over certain existing utility systems, lines, and conduits; water lines located within its boundary; and a 1-acre parcel used as a parking lot, a transfer to RFUMS of all right, title, and interest of the United States in the property under section 8164 would be in the best interests of VA.

FOR FURTHER INFORMATION CONTACT: Vanessa Ellington, Office of Asset Enterprise Management (004B), Department of Veterans Affairs, 810 Vermont Avenue, NW., Washington, DC 20420, (202) 273-8192.

SUPPLEMENTARY INFORMATION: The subject property consists of approximately 85.4 acres of land and improvements leased to RFUMS under a 75-year enhanced-use lease executed on April 10, 2002. The lease has a remaining term of approximately 70 years. Section 8164 of title 38, U.S. Code, authorizes the Secretary, either during or within 30 days after the end of the lease term, to dispose of enhanced-use leased property to the lessee thereof if the Secretary determines that the leased property is no longer needed by the Department and that disposal under that section, rather than under section 8118 or 8122 of such title, is in the best interests of the Department. The Secretary has made those determinations and is providing this notice of intent to so dispose of the subject leased property as required by section 8164.

Approved: October 4, 2007.
Gordon H. Mansfield,
Acting Secretary of Veterans Affairs.

[FR Doc. E7-20102 Filed 10-11-07; 8:45 am]

BILLING CODE 8320-01-P